DEPARTMENT OF HEALTH AND HUMAN SERVICES

Centers for Disease Control and Prevention

[60Day-16-16JO; Docket No. CDC-2016-0005]

Proposed Data Collection Submitted for Public Comment and Recommendations

AGENCY: Centers for Disease Control and Prevention (CDC), Department of Health and Human Services (HHS).

ACTION: Notice with comment period.

SUMMARY: The Centers for Disease Control and Prevention (CDC), as part of its continuing efforts to reduce public burden and maximize the utility of government information, invites the general public and other Federal agencies to take this opportunity to comment on proposed and/or continuing information collections, as required by the Paperwork Reduction Act of 1995. This notice invites comment on the proposed information collect project entitled “The Pregnancy Risk Assessment Surveillance System”.

DATES: Written comments must be received on or before March 21, 2016.

ADDRESSES: You may submit comments, identified by Docket No. CDC-2016-0005 by any of the following methods:

Federal eRulemaking Portal: Regulation.gov. Follow the instructions for submitting comments.

Mail: Leroy A. Richardson, Information Collection Review Office, Centers for Disease Control and Prevention, 1600 Clifton Road, NE., MS-D74, Atlanta, Georgia 30329.

Instructions: All submissions received must include the agency name and Docket Number. All relevant comments received will be posted without change to Regulations.gov, including any personal information provided. For access to the docket to read background documents or comments received, go to Regulations.gov.

Please note: All public comment should be submitted through the Federal eRulemaking portal (Regulations.gov) or by U.S. mail to the address listed above.

FOR FURTHER INFORMATION CONTACT: To request more information on the proposed project or to obtain a copy of the information collection plan and instruments, contact the Information Collection Review Office, Centers for Disease Control and Prevention, 1600 Clifton Road, NE., MS-D74, Atlanta, Georgia 30329; phone: 404-639-7570; Email: omb@cdc.gov.

SUPPLEMENTARY INFORMATION: Under the Paperwork Reduction Act of 1995 (PRA) (44 U.S.C. 3501-3520), Federal agencies must obtain approval from the Office of Management and Budget (OMB) for each collection of information they conduct or sponsor. In addition, the PRA also requires Federal agencies to provide a 60-day notice in the Federal Register concerning each proposed collection of information, including each new proposed collection, each proposed extension of existing collection of information, and each reinstatement of previously approved information collection before submitting the collection to OMB for approval. To comply with this requirement, we are publishing this notice of a proposed data collection as described below.

Comments are invited on: (a) Whether the proposed collection of information is necessary for the proper performance of the functions of the agency, including whether the information shall have practical utility; (b) the accuracy of the agency's estimate of the burden of the proposed collection of information; (c) ways to enhance the quality, utility, and clarity of the information to be collected; (d) ways to minimize the burden of the collection of information on respondents, including through the use of automated collection techniques or other forms of information technology; and (e) estimates of capital or start-up costs and costs of operation, maintenance, and purchase of services to provide information. Burden means the total time, effort, or financial resources expended by persons to generate, maintain, retain, disclose or provide information to or for a Federal agency. This includes the time needed to review instructions; to develop, acquire, install and utilize technology and systems for the purpose of collecting, validating and verifying information, processing and maintaining information, and disclosing and providing information; to train personnel and to be able to respond to a collection of information, to search data sources, to complete and review the collection of information; and to transmit or otherwise disclose the information.

Proposed Project

The Pregnancy Risk Assessment Monitoring System (PRAMS)—Existing Collection in Use without an OMB Control Number—National Center for Chronic Disease Prevention and Health Promotion (NCCDPHP), Centers for Disease Control and Prevention (CDC).

Background and Brief Description

The Centers for Disease Control and Prevention (CDC) seeks OMB approval to collect information through the Pregnancy Risk Assessment Monitoring System (PRAMS) for three years. The PRAMS is a customized mail and telephone survey currently conducted by 41 sites (40 states and New York City) collectively called “states” or “jurisdictions” in this document. In 2016 PRAMS intends to expand to all 50 states.

PRAMS supplements vital records data by providing state-specific information on maternal behaviors and experiences. Respondents are pregnant or postpartum women. Every month, in each participating state, a sample of 100 to 300 women who have recently given birth to a live infant is selected from birth certificates. The sample is stratified based on the state's population of interest to ensure high-risk populations are represented in the data. Information is collected by self-administered mail survey with telephone follow-up for non-responders. Because PRAMS uses standardized data collection methods, it allows data to be compared among states.

The PRAMS survey instrument is based on a core set of questions common across all states. Core questions request information that is not available from vital records; information about health conditions, prenatal care, postpartum care, access to care, or health insurance status; information about contraception, health habits or risk behaviors; and information about other topics such as breastfeeding. In addition, CDC provides participating states with standard but optional questions that states may use to customize survey content for their specific needs. These questions can be used to address state-specific priorities, or address special topics such history of breast and ovarian cancer. States not intending to implement the survey on an ongoing basis, can instead employ a point-in-time survey consisting of core and standard questions. Increasingly, PRAMS infrastructure is used to support emerging needs and special-purpose information collection relevant to the core mission of improving maternal and child health. For example, pregnant or postpartum women may have unique needs in some circumstances, such as disease outbreaks or natural disasters. Because PRAMS infrastructure was developed to access a specific and vulnerable subpopulation, the PRAMS infrastructure can be rapidly adapted for targeted information collection that would not be feasible with other surveillance methods.

States submit their PRAMS data sets to CDC for cleaning and weighting, and CDC returns the data sets to the respective state of origin for its use. CDC has implemented a Web-based data collection and management system that enhances authorized users' ability to monitor and improve survey operations in real time and survey participants to complete a survey online via mobile devices. The system also enhances the ability of CDC and states to conduct additional information collection related to surveillance of a vulnerable population, emerging needs for maternal and child health program planning, or special purpose studies designed to elucidate factors that influence material and child health.

PRAMS data are used by state governments to plan and review preconception and perinatal health programs and policies aimed at reducing health problems among mothers and babies, and by researchers to investigate emerging issues in the field of reproductive health.

The burden estimate for PRAMS includes two types of information collection: (1) Information collection associated with the standard PRAMS core questions, and (2) information collection associated with supplemental activities. Participation is voluntary and there are no costs to respondents other than their time.

Estimated Annualized Burden Hours
Type of respondents | Form name | Number of respondents | Number of responses per respondent | Average burden per response (in hrs) | Total burden (in hrs)
Women of child-bearing age who recently delivered a live born infant | PRAMS Core and Standard Phase 8 Questions (English) | 50,150 | 1 | 25/60 | 20,896
| PRAMS Core and Standard Phase 8 Questions (Spanish) | 6,054 | 1 | 34/60 | 3,431
| PRAMS Point in Time Core and Standard Phase 8 Questions | 5,200 | 1 | 24/60 | 2,080
| PRAMS Supplemental Questions on Family History of Breast and Ovarian Cancer | 8,000 | 1 | 15/60 | 2,000
Total |  |  |  |  | 28,407

Leroy A. Richardson,
Chief, Information Collection Review Office, Office of Scientific Integrity, Office of the Associate Director for Science, Office of the Director, Centers for Disease Control and Prevention.

[FR Doc. 2016-00936 Filed 1-19-16; 8:45 am]

BILLING CODE 4163-18-P